DEPARTMENT OF ENERGY

Federal Energy Regulatory Commission

[Docket No. RM01-5-000]

Electronic Tariff Filings; Notice of Deployment of eTariff Test Sandbox

Take notice that on September 30, 2024, the test sandbox was deployed to permit the testing of eTariff filings using both the new compliance codes as described in the September 20, 2024, Notice ¹ as well as the Version 2 XML schema as described in the June 11, 2024 Notice.² The test sandbox may be accessed by going to the current eTariff Sandbox page (https://etariff.ferc.gov/TariffSandbox.aspx) and clicking the Open Test Sandbox link at the top of the page. To access the test site directly go to https://etariff.ferc.gov/TariffSandbox2.aspx. eTariff files that include these features can only be tested in the Test Sandbox and not in the sandbox for the currently deployed version of eTariff.

¹ Electronic Tariff Filings, Docket No. RM01-5-000 (Sept. 20, 2024), https://elibrary.ferc.gov/eLibrary/filedownload?fileid=6FFD7C34-1D8A-CD28-8BD5-92111D400000).

² Electronic Tariff Filings, Docket No. RM01-5-000 (Jun. 11, 2024), https://elibrary.ferc.gov/eLibrary/filedownload?fileid=9182EDBA-3B38-CB62-9787-9008C6200000.

As described in the September 20 and June 11 Notices, the test sandbox will allow eTariff filers to test filings using the new compliance categories as well as the inclusion of an applicant name and tariff records submitted in Microsoft Word and Excel formats.

Additionally, there have been three changes to the filing_type table.

1. Code 230—Complaint (ISOs/RTOs) has been changed to compliance_New_type.

2. The descriptions for Codes 40 and 45 have been changed to:

Code 40: Application for Confirmation and Approval (Other than BPA)—subdocket.

Code 45: Application for Confirmation and Approval (Other than BPA)—new docket.

Revised filing_type tables will be posted at the same eLibrary Accession Number as this Notice. Two marked versions are posted. The first showing all the changes from the existing filing-type table and the second indicating the three changes described above. After parties have an opportunity to test and no further change are necessary, the final tables will be posted with a targeted date of November 1, 2024.

Questions on these changes should be directed to: Michael Goldenberg at Michael.Goldenberg@ferc.gov or James Sarikas at James.Sarikas@ferc.gov.

Dated: September 30, 2024.
Debbie-Anne A. Reese,
Acting Secretary.

[FR Doc. 2024-23047 Filed 10-4-24; 8:45 am]

BILLING CODE 6717-01-P